DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of October 27, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Hancock County, Iowa and Incorporated Areas
Docket No.: FEMA-B-2145
City of Forest City | City Hall, 305 North Clark Street, Forest City, IA 50436.
Unincorporated Areas of Hancock County | Hancock County Courthouse, 855 State Street, Garner, IA 50438.
Plymouth County, Iowa and Incorporated Areas
Docket No.: FEMA-B-2135
City of Akron | City Hall, 220 Reed Street, Akron, IA 51001.
City of Brunsville | City Hall, 310 Oak Street, Brunsville, IA 51008.
City of Hinton | City Hall, 205 West Main Street, Hinton, IA 51024.
City of Kingsley | City Hall, 222 Main Street, Kingsley, IA 51028.
City of Le Mars | City Hall, 40 Central Avenue Southeast, Le Mars, IA 51031.
City of Merrill | City Hall, 608 Main Street, Merrill, IA 51038.
City of Oyens | City Hall, 230 Main Street, Oyens, IA 51045.
City of Remsen | City Hall, 8 West 2nd Street, Remsen, IA 51050.
City of Struble | City Hall, 210 William Street, Struble, IA 51031.
City of Westfield | City Hall, 223 Union Street, Westfield, IA 51062.
Unincorporated Areas of Plymouth County | Plymouth County Annex Building, 214 3rd Avenue Southeast, Le Mars, IA 51031.
Lake of the Woods County, Minnesota and Incorporated Areas
Docket No.: FEMA-B-2135
City of Baudette | City Hall, 106 West Main Street, Baudette, MN 56623.
City of Williams | City Hall, 250 Main Street, Williams, MN 56686.
Red Lake Band of Chippewa Tribe | Red Lake Nation Government Center, 15484 Migizi Drive, Red Lake, MN 56671.
Unincorporated Areas of Lake of the Woods County | Lake of the Woods County Government Center, 206 8th Avenue Southeast, Baudette, MN 56623.
Montgomery County, Ohio and Incorporated Areas
Docket No.: FEMA-B-2135
City of Centerville | Municipal Government Center, 100 West Spring Valley Road, Centerville, OH 45458.
City of Dayton | Building Inspection Department, 371 West Second Street, Dayton, OH 45402.
City of Kettering | Kettering Government Center, 3600 Shroyer Road, Kettering, OH 45429.
Unincorporated Areas of Montgomery County | Montgomery County Administration Building, 451 West Third Street, Dayton, OH 45422.
Sumter County, South Carolina and Incorporated Areas
Docket No.: FEMA-B-2069
City of Sumter | Sumter City-County Planning Department, 12 West Liberty Street, Suite C, Sumter, SC 29150.
Town of Mayesville | Town Hall, 22 South Main Street, Mayesville, SC 29104.
Unincorporated Areas of Sumter County | Sumter City-County Planning Department, 12 West Liberty Street, Suite C, Sumter, SC 29150.
Williamsburg County, South Carolina and Incorporated Areas
Docket No.: FEMA-B-2069
Town of Kingstree | Town Hall, 401 North Longstreet Street, Kingstree, SC 29556.
Unincorporated Areas of Williamsburg County | Williamsburg County Public Service Administration Building, 201 West Main Street, Kingstree, SC 29556.

[FR Doc. 2022-13261 Filed 6-21-22; 8:45 am]

BILLING CODE 9110-12-P